DEPARTMENT OF ENERGY

Federal Energy Regulatory Commission

Notice of Application for Transfer of License and Application for Surrender of License With Dam Removal and Soliciting Comments, Motions To Intervene, and Protests

August 25, 2005.

a. Type of Application: Application for Transfer of License and Application for Surrender of License with Dam Removal.

b. Project Number: P-3155-027 and -028.

c. Date Filed: August 24, 2005.

d. Applicant: Cox Lake—Carbonton Associates, LLC and Michael R. Allen.

e. Name of Project: Carbonton Dam Project (FERC No. 3155).

f. Location: The project is located on the Deep River, in Lee County, North Carolina. The project affects no Federal or tribal lands.

g. Filed Pursuant to: Federal Power Act, 16 U.S.C. 791(a) 825(r) and 799 and 801.

h. Applicant Contact: Michael Allen, P.O. Box 1401, Burlington, NC 27612-1401, phone (336) 269-2829 or Mark K. Seifert, Attorney at Law, P.O. Box 548, Cary, NC 27512, phone (919) 362-4452.

i. FERC Contact: Any questions on this notice should be addressed to Robert Fletcher at (202) 502-8901, or e-mail address: robert.fletcher@ferc.gov.

j. Deadline for filing comments and or motions: September 23, 2005.

k. Description of Request: Cox Lake Carbonton Associates, LLC and Michael R. Allen request approval of the Joint Application for Transfer of License from Cox Lake Carbonton Associates, LLC, a North Carolina limited liability company to Michael R. Allen. Cox Lake Carbonton Associates, LLC and Michael R. Allen also request approval of its application for surrender of license and complete removal dam removal and powerhouse closure/removal. The licensee has consulted with the U.S. Army Corps of Engineers, Department of Interiors, Fish and Wildlife Service, North Carolina Departments of Environment and Natural Resources Division of Water Quality, North Carolina Wildlife Resources Commission, and the North Carolina State Historic Preservation Officer as part of the large Deep River stream restoration project.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field (P-3155) to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions To Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers (P-3155-027 and -028). All documents (original and eight copies) should be filed with: Magalie R. Salas, Secretary, Federal Energy Regulatory Commission, 888 First Street, NE., Washington, DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E5-4758 Filed 8-30-05; 8:45 am]

BILLING CODE 6717-01-P